DEPARTMENT OF DEFENSE

Department of the Air Force

U.S. Air Force Scientific Advisory Board Notice of Meeting

AGENCY: Department of the Air Force, Air Force Scientific Advisory Board.

ACTION: Federal Registrar meeting notice.

SUMMARY: The United States Air Force Scientific Advisory Board plans to hold its Winter Board meeting in January. Portions of this meeting will be open to the public.

DATES: The meeting date is January 24, 2017, from 8 a.m. to 5 p.m.

ADDRESSES: The meeting will take place at the Beckman Center of National Academies of Science and Engineering, 100 Academy Drive, Irvine, California 92617.

FOR FURTHER INFORMATION CONTACT: The Scientific Advisory Board meeting organizer, Major Mike Rigoni at michael.j.rigoni.mil@mail.mil or 240-612-5506, United States Air Force Scientific Advisory Board, 1500 West Perimeter Road, Ste. #3300, Joint Base Andrews, MD 20762.

SUPPLEMENTARY INFORMATION: Under the provisions of the Federal Advisory Committee Act of 1972 (5 U.S.C., Appendix, as amended), the Government in the Sunshine Act of 1976 (5 U.S.C. 552b, as amended), and 41 CFR 102-3.150, the Department of Defense announces the United States Air Force (USAF) Scientific Advisory Board (SAB) Winter Board meeting will take place on 24 January 2017 at the Beckman Center of National Academies of Science and Engineering, located at 100 Academy Drive, Irvine, California 92617. The meeting will occur from 8:00 a.m.-5:00 p.m. on Tuesday, 24 January 2017. The session that will be open to the general public will be held from 8:00 a.m. to 8:30 a.m. on 24 January 2017. In accordance with 5 U.S.C. 552b, as amended, and 41 CFR 102-3.155, a number of sessions of the Air Force Scientific Advisory Board Winter Board meeting will be closed to the general public because they will discuss classified information and matters covered by Section 552b of Title 5, United States Code, subsection (c), subparagraph (1).

Any member of the public that wishes to attend this meeting or provide input to the Air Force Scientific Advisory Board must contact the Scientific Advisory Board meeting organizer at the phone number or email address listed in this announcement at least five working days prior to the meeting date. Please ensure that you submit your written statement in accordance with 41 CFR 102-3.140(c) and section 10(a)(3) of the Federal Advisory Committee Act. Statements being submitted in response to the agenda mentioned in this notice must be received by the Scientific Advisory Board meeting organizer at least five calendar days prior to the meeting commencement date. The Scientific Advisory Board meeting organizer will review all timely submissions and respond to them prior to the start of the meeting identified in this notice. Written statements received after this date may not be considered by the Scientific Advisory Board until the next scheduled meeting.

Henry Williams,
Acting Air Force Federal Register Liaison Officer.

[FR Doc. 2016-29102 Filed 12-6-16; 8:45 am]

BILLING CODE 5001-10-P